DEPARTMENT OF THE INTERIOR

Bureau of Indian Affairs

Final Environmental Impact Statement for the Proposed Cortina Integrated Waste Management Project, Cortina Rancheria of Wintun Indians, Colusa County, CA

AGENCY: Bureau of Indian Affairs, Interior.

ACTION: Notice.

SUMMARY: This notice advises the public that the Bureau of Indian Affairs (BIA) intends to submit a Final Environmental Impact Statement (FEIS) for the proposed approval of a lease of approximately 443 acres held in trust by the federal government for the Cortina Band of Wintun Indians in Colusa County, California, to the Environmental Protection Agency. The BIA prepared the FEIS in cooperation with the Cortina Band. The proposed action would allow the lessee, Cortina Integrated Waste Management, Inc., to develop and operate an integrated waste management project for the purpose of promoting the socioeconomic advancement of the Cortina Band. Brief descriptions of the proposed action and alternatives follow as supplementary information.

DATES: Written comments must arrive by September 30, 2000.

ADDRESSES: If you wish to comment, you may submit your comments by any one of several methods. You may mail or hand carry written comments to Ronald M. Jaeger, Regional Director, Pacific Region, Bureau of Indian Affairs, 2800 Cottage Way, Sacramento, California, 95825-1846. You may also comment via the Internet to billallan@bia.gov. Please submit Internet comments as an ASCII file, avoiding the use of special characters and any form of encryption. Include your name, return address and the caption, “FEIS Comments, Cortina Integrated Waste Management Project,” on the first page of your written comments or Internet message. If you do not receive confirmation from the system that your Internet message was received, contact us directly at (916) 978-6043.

Comments, including names and home addresses of respondents, will be available for public review at the above address during regular business hours, 8:00 a.m. to 4:30 p.m., Monday through Friday, except holidays. Individual respondents may request confidentiality. If you wish to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

To obtain a copy of the FEIS, please write or call William Allan, Environmental Protection Specialist, Pacific Region, Bureau of Indian Affairs, 2800 Cottage Way, Sacramento, CA 95825-1846, telephone (916) 978-6043.

FOR FURTHER INFORMATION CONTACT: William Allan, (916) 978-6043.

SUPPLEMENTARY INFORMATION: The proposed action is the approval of a 25 year lease, renewable for an additional 25 years, of 443 acres of the 640 acre Cortina Rancheria to Cortina Integrated Waste Management, Inc. (a California corporation that is a wholly owned subsidiary of Earthworks Industries, Inc., of Vancouver, Canada), for the development and operation of a landfill, materials recovery facility, composting facility, and petroleum-contaminated soil bio-remediation unit. Waste would be transported to these facilities for recovery of recyclable and disposal of non-recyclable materials, and recycled materials transported from the facilities to market destinations. The lease would obligate the lessee to post-closure maintenance responsibilities for a period of at least 30 years after final closure.

Alternatives to the proposed project that are considered in the FEIS include the no action alternative (no lease approval) and two reduced project alternatives. One of these two alternatives would reduce the size of the landfill by eliminating a proposed 21 acre second phase. The other would eliminate the composting and bio-remediation portions of the proposed action.

This notice is published in accordance with Sec. 1503.1 of the Council on Environmental Quality Regulations (40 CFR parts 1500 through 1508) implementing the procedural requirements of the National Environmental Policy Act of 1969, as amended (42 U.S.C. 4321 et seq.), and the Department of the Interior Manual (516 DM 1-6), and is in the exercise of the authority delegated to the Assistant Secretary—Indian Affairs by 209 DM 8.

Dated: August 25, 2000.
Kevin Gover,
Assistant Secretary—Indian Affairs.

[FR Doc. 00-22631 Filed 8-31-00; 8:45 am]

BILLING CODE 4310-02-P